DEPARTMENT OF THE TREASURY

Internal Revenue Service

26 CFR Parts 1 and 301

[REG-125443-01]

RIN 1545-AY92

Revisions to Regulations Relating to Withholding of Tax on Certain U.S. Source Income Paid to Foreign Persons and Revisions of Information Reporting Regulations; Correction

AGENCY: Internal Revenue Service (IRS), Treasury.

ACTION: Correction to notice of proposed rulemaking and notice of public hearing.

SUMMARY: This document contains corrections to proposed regulations and notice of public hearing that were published in the Federal Register on March 30, 2005 (70 FR 16189). This regulation relates to the withholding of income tax under sections 1441 and 1442 on certain U.S. source income paid to foreign persons and related requirements governing collection, deposit, refunds, and credits of withheld amounts under sections 1461 through 1463.

FOR FURTHER INFORMATION CONTACT: Ethan Atticks, (202) 622-3840 (not a toll-free number).

SUPPLEMENTARY INFORMATION:

Background

The proposed regulations that are the subject of these corrections are under sections 1441 and 1442 of the Internal Revenue Code.

Need for Correction

As published, the notice of proposed rulemaking and notice of public hearing contains errors that may prove to be misleading and are in need of clarification.

Correction of Publication

Accordingly, the publication of the notice of proposed rulemaking (REG-125443-01), which was the subject of FR Doc. 05-6060, is corrected as follows:

1. On page 16189, column 3, in the preamble under the caption “DATES”, lines five and six, the language “hearing scheduled for July 13, 2005, at 10 a.m. must be received by June 22,” is corrected to read “hearing scheduled for July 20, 2005, at 10 a.m. must be received by June 29,”.

2. On page 16192, column 2, in the preamble under the paragraph heading “Comments and Public Hearing”, second paragraph, line two, the language “for July 13, 2005, beginning at 10 a.m.” is corrected to read “for July 20, 2005, beginning at 10 a.m.”.

3. On page 16192, column 3, in the preamble under the paragraph heading “Comments and Public Hearing”, first full paragraph, line 8, the language “Wednesday, June 8. A period of 10” is corrected to read “Wednesday, June 29, 2005. A period of 10”.

Guy R. Traynor,
Acting Chief, Publications and Regulations Branch Legal Processing Division, Associate Chief Counsel (Procedure and Administration).

[FR Doc. 05-7637 Filed 4-15-05; 8:45 am]

BILLING CODE 4830-01-P